CONSUMER PRODUCT SAFETY COMMISSION

Commission Agenda and Priorities; Notice of Hearing

AGENCY: U.S. Consumer Product Safety Commission.

ACTION: Notice of public hearing.

SUMMARY: The U.S. Consumer Product Safety Commission (“Commission”) will conduct a public hearing to receive views from all interested parties about the Commission's agenda and priorities for fiscal year 2017, which begins on October 1, 2016, and for fiscal year 2018, which begins on October 1, 2017. We invite members of the public to participate. Written comments and oral presentations concerning the Commission's agenda and priorities for fiscal years 2017 and 2018 will become part of the public record.

DATES: The hearing will begin at 10 a.m. on June 15, 2016, and will conclude the same day. Requests to make oral presentations and the written text of any oral presentations must be received by the Office of the Secretary not later than 5 p.m. Eastern Daylight Time (“EDT”) on June 1, 2016.

ADDRESSES: The hearing will be in the Hearing Room, 4th Floor of the Bethesda Towers Building, 4330 East West Highway, Bethesda, MD 20814. Requests to make oral presentations, (along with the texts of oral presentations) and written comments should be captioned, “Agenda and Priorities FY 2017 and/or 2018,” and sent by electronic mail (email) to: cpsc-os@cpsc.gov, or mailed or delivered to the Office of the Secretary, U.S. Consumer Product Safety Commission, 4330 East West Highway, Bethesda, MD 20814. Requests and comments must be received no later than 5 p.m. EDT on June 1, 2016.

FOR FURTHER INFORMATION CONTACT: For information about the hearing, or to request an opportunity to make an oral presentation, please send an email, call, or write Todd A. Stevenson, Office of the Secretary, U.S. Consumer Product Safety Commission, 4330 East West Highway, Bethesda, MD 20814; email: cpsc-os@cpsc.gov; telephone: (301) 504-7923; facsimile: (301) 504-0127. An electronic copy of the CPSC's budget request for fiscal year 2017 can be found at: www.cpsc.gov/performance-and-budget.

SUPPLEMENTARY INFORMATION:

I. Background

Section 4(j) of the Consumer Product Safety Act (“CPSA”) (15 U.S.C. 2053(j)) requires the Commission to establish an agenda for action under the laws the Commission administers, and to the extent feasible, select priorities for action at least 30 days before the beginning of each fiscal year. Section 4(j) of the CPSA provides further that before establishing its agenda and priorities, the Commission conduct a public hearing and provide an opportunity for the submission of comments.

The Commission is in the process of preparing the agency's fiscal year 2017 Operating Plan and fiscal year 2018 Congressional Budget Request. Fiscal year 2017 begins on October 1, 2016, and fiscal year 2018 begins on October 1, 2017. The Commission's priorities for fiscal years 2017 and 2018 will align with the CPSC's 2016—2020 Strategic Plan, which was released for public comment in February 2016. Through this notice, the Commission invites the public to comment on the following questions:

1. What are the priorities the Commission should consider emphasizing and dedicating resources toward in the fiscal year 2017 Operating Plan and/or the fiscal year 2018 Congressional Budget Request?

2. What activities should the Commission consider deemphasizing in the fiscal year 2017 Operating Plan and/or the fiscal year 2018 Congressional Budget Request?

3. Should the Commission consider making any changes or adjustments to the agency's proposed or ongoing education, safety standards activities, regulation, and enforcement efforts in fiscal years 2017 and/or 2018, keeping in mind the CPSC's existing policy on establishing priorities for Commission action (16 CFR 1009.8)? The CPSC's budget request for fiscal year 2017 can be found at: www.cpsc.gov/performance-and-budget. Comments are welcome on whether particular action items should be higher priority than others, should not be included, or should be added to the fiscal year 2017 and/or fiscal year 2018 agendas.

4. Which candidates should the Commission consider for retrospective review of existing rules for fiscal year 2017 and/or 2018 agendas? This is intended to facilitate the identification of rules that warrant repeal or modification, including rules that would benefit from strengthening, complementing, or modernizing. Consistent with Executive Orders (“E.O.”) 13579, 13563, and 13610 and the Regulatory Flexibility Act (“RFA”), the CPSC systematically reviews its regulations to ensure consistency among all regulations in accomplishing program goals. The CPSC's latest Semiannual Regulatory Agenda, which was issued in December 2015, can be found at: www.federalregister.gov/articles/2015/12/15/2015-30672/semiannual-regulatory-agenda.

II. Requests To Make Presentations or Submit Written Comments

Persons who desire to make oral presentations at the hearing on June 15, 2016 should submit their request, including the text of their oral presentation, by email to: cpsc-os@cpsc.gov, or by mail or delivery to the Office of the Secretary, U.S. Consumer Product Safety Commission, 4330 East West Highway, Bethesda, MD 20814; telephone: (301) 504-7923; facsimile (301) 504-0127. Requests to make oral presentations and texts of the presentation must be received no later than 5 p.m. EDT on June 1, 2016. Presentations should be limited to approximately 10 minutes. The Commission reserves the right to impose further time limitations on all presentations and further restrictions to avoid duplication of presentations.

If you do not want to make an oral presentation, but would like to provide written comments, you may do so. Please submit written comments in the manner described in the previous paragraph. Written comments must be received no later than 5 p.m. EDT on June 1, 2016.

Dated: May 4, 2016.
Todd A. Stevenson,
Secretary, U.S. Consumer Product Safety Commission.

[FR Doc. 2016-10804 Filed 5-6-16; 8:45 am]

BILLING CODE 6355-01-P